FEDERAL COMMUNICATIONS COMMISSION

Privacy Act System of Records

AGENCY: Federal Communications Commission (FCC or Commission).

ACTION: Notice; amendment of one altered Privacy Act system of records; amendment of one revised routine use; amendment of one proposed new routine use; one deleted routine use; and one purged system of records.

SUMMARY: Pursuant to the provisions of the Privacy Act of 1974, as amended, 5 U.S.C. 552a(e)(4), the FCC has amended and is republishing the proposed alteration of a systems of records, FCC/CIB-1, “Informal Complaints and Inquiries.” The amended and altered system of records incorporates the provisions of FCC/CIB-4, “Telephone and Electronic Contacts,” revises two routine uses to incorporate comments received following the initial publication of the altered system of records, and makes other edits and revisions as necessary. The FCC will eliminate FCC/CIB-4.

DATES: The amended and altered system, which incorporates the comments received following the initial publication, shall become effective October 11, 2001.

FOR FURTHER INFORMATION: Contact Les Smith, Performance Evaluation and Records Management, Room 1-A804, Federal Communications Commission, 445 12th Street, SW., Washington, DC 20554, or via the Internet at lesmith@fcc.gov; or Arthur Scrutchins, Staff Attorney, Office of the Bureau Chief, Consumer Information Bureau, Room 3-A234, Federal Communications Commission, at (202) 418-2184, or via the Internet at ascrutch@fcc.gov.

SUPPLEMENTARY INFORMATION: As required by the Privacy Act of 1974, 5 U.S.C. 552a(e)(4), this document sets forth notice of the amendment of the proposed alteration of a system of records maintained by the FCC, in response to comments received following the initial publication in the Federal Register. The purpose of altering FCC/CIB-1, “Information Complaints and Inquiries,” is to enable the Consumer Information Bureau to handle and process informal complaints filed against common carriers received from individuals, groups, and other entities. Records in this system are available for public inspection after redaction of information, which could identify the complainant or correspondent, i.e., name, address, and/or telephone number.

The Commission's proposal achieves this purpose by amending and altering this system of records, FCC/CIB-1, “Informal Complaints and Inquiries,” with these changes:

The incorporation of the data elements of another system of records, FCC/CIB-4, “Telephone and Electronic Contacts,” into FCC/CIB-1;

The elimination of FCC/CIB-4;

The amendment of the proposed revision of one routine use to address informal complaints filed against common carriers, pursuant to Section 208 of the Communications Act of 1934, as amended:

Routine use (1) to allow disclosure when a record in this system involves an informal complaint filed against a common carrier, the complaint may be forwarded to the defendant carrier for a response, pursuant to Section 208 of the Communications Act of 1934, as amended.

The addition and amendment of one routine use to address informal complaints filed against common carriers:

Routine use (2) to allow disclosure when an order or other Commission-issued document that includes consideration of informal complaints filed against common carriers is entered by the FCC to implement or enforce the Communications Act, pertinent rule, regulation, or order of the FCC, the complainant's name may be made public in that order or document. Where a complainant in filing his or her complaint explicitly requests that the bureau withhold his or her name from public disclosure, such a request will be granted and the complainant's name will not be disclosed in the Commission-issued order or document.

The deletion of one routine use pursuant to 5 U.S.C. 552a(b)(3):

Former routine use (4) to disclose to a Federal agency, in response to its request, in connection with the hiring or retention of an employee, the issuance of a security clearance, the reporting of an investigation of an employee, the letting of a contract, or the issuance of a license, grant, or other benefit; and

The revision or modification of various data elements in FCC/CIB-1, including editorial changes, to update, simplify, or clarify, as necessary, this system of records.

The FCC will use FCC/CIB-1 to handle and process informal complaints filed against common carriers received from individuals, groups, and other entities. Records in this system are available for public inspection after redaction of information, which could identify the complainant or correspondent, i.e., name, address, and/or telephone number. The functions in this system of records will be performed by the Consumer Information Bureau (CIB).

This notice meets the requirement to notify the public that the FCC is amending the proposed changes in the Commission's system of records by incorporating changes responsive to comments that were received following the initial publication at 66 FR 38425, July 24, 2001. With this notification, this system of records is effective October 11, 2001.

FCC/CIB-1

SYSTEM NAME:

Informal Complaints and Inquiries.

SECURITY CLASSIFICATION:

This material has not received a security classification at this time. The OSCAR system is currently undergoing security review.

SYSTEM LOCATION:

Chief, Consumer Information Bureau, Room 5-C758, Federal Communications Commission (FCC), 445 12th Street, SW., Washington, DC 20554 and 1270 Fairfield Road, Gettysburg, PA 17325.

CATEGORIES OF INDIVIDUALS COVERED BY THE SYSTEM:

Individuals, groups, and other entities who have made informal complaints or inquiries in any format, including but not limited to, paper, telephone, and electronic submissions, on matters arising under the Communications Act of 1934, as amended, and the Rehabilitation Act.

CATEGORIES OF RECORDS IN THE SYSTEM:

The records in this system include both computerized information contained in a database and paper copies of inquiries, informal complaints, and related supporting information, company replies to complaints, inquiries, and Commission letters regarding such complaints and inquiries made by individuals, groups, or other entities pertaining to the FCC's bureaus and offices.

AUTHORITY FOR MAINTENANCE OF THE SYSTEM:

Sections 151, 154, 206, 208, 225, 226, 227, 228, 255, 258, 301, 303, 309(e), 312, 362, 364, 386, 507 of the Communications Act of 1934, as amended, 47 U.S.C. 151, 154, 206, 208, 225, 226, 227, 228, 255, 258, 301, 303, 309(e), 312, 362, 364, 386, 507; Sections 504 and 508 of the Rehabilitation Act, 29 U.S.C. 794; and 47 CFR 1.711 et seq., 6.15 et seq., 7.15 et seq., and 64.604.

PURPOSE(S):

The records in this system of records are used by Commission personnel to handle and process informal complaints received from individuals, groups, and other entities. Records in this system are available for public inspection after redaction of information that could identify the complainant or correspondent, i.e., name, address and/or telephone number.

ROUTINE USES OF RECORDS MAINTAINED IN THE SYSTEM, INCLUDING CATEGORIES OF USERS AND THE PURPOSES OF SUCH USES:

This system of records is used by Commission personnel to handle and process informal complaints received from individuals, groups, and other entities.

1. When a record in this system involves an informal complaint filed against a common carrier, the complaint may be forwarded to the defendant carrier for a response, pursuant to Section 208 of the Communications Act of 1934, as amended.

2. When an order or other Commission-issued document that includes consideration of informal complaints filed against common carriers is entered by the FCC to implement or enforce the Communications Act, pertinent rule, regulation, or order of the FCC, the complainant's name may be made public in that order or document. Where a complainant in filing his or her complaint explicitly requests that the bureau withhold his or her name from public disclosure, such a request will be granted and the complainant's name will not be disclosed in the Commission-issued order or document.

3. Where there is an indication of a violation or potential violation of a statute, regulation, rule, or order, records from this system may be referred to the appropriate Federal, state, or local agency responsible for investigating or prosecuting a violation or for implementing or enforcing the statute, rule, regulation, or order.

4. A record on an individual in this system of records may be disclosed, where pertinent, in any legal proceeding to which the Commission is a party before a court or administrative body.

5. A record from this system of records may be disclosed to the Department of Justice or in a proceeding before a court or adjudicative body when:

(a) the United States, the Commission, a component of the Commission, or, when represented by the government, an employee of the Commission is a party to litigation or anticipated litigation or has an interest in such litigation, and

(b) The Commission determines that the disclosure is relevant or necessary to the litigation.

6. A record on an individual in this system of records may be disclosed to a Congressional office in response to an inquiry the individual has made to the Congressional office.

7. A record from this system of records may be disclosed to GSA and NARA for the purpose of records management inspections conducted under authority of 44 U.S.C. 2904 and 2906. Such disclosure shall not be used to make a determination about individuals.

In each of these cases, the FCC will determine whether disclosure of the records is compatible with the purpose for which the records were collected.

DISCLOSURE TO CONSUMER REPORTING AGENCIES:

Not applicable unless the consumer reporting agencies include consumer advocacy groups.

POLICIES AND PRACTICES FOR STORING, RETRIEVING, ACCESSING, RETAINING, AND DISPOSING OF RECORDS IN THE SYSTEM:STORAGE:

Paper copies of records in this system of records are maintained in file folders and electronic files are located in computer databases on the FCC internal network.

RETRIEVABILITY:

Records are retrieved by individual name, entity name, licensee, applicant or unlicensed individual, call sign, file number, or subject matter.

SAFEGUARDS:

Records are stored in locked cabinets, which are secured in the office at the close of the business day. Access to computer records is controlled by password. Computer systems are stored within secure areas. Data resident on network servers are backed-up daily to magnetic media. One week of back-up tapes is stored on-site in fireproof safes. Each week, the previous week's back-up tapes are sent to an off-site storage location. A maximum of ten weeks of tapes are kept and cycled in this fashion.

RETENTION AND DISPOSAL:

The records are retained at the FCC and then destroyed in accordance with the appropriate records retention schedule.

SYSTEM MANAGER(S) AND ADDRESS:

Chief, Consumer Information Bureau, Federal Communications Commission, 445 12th Street, Room 5-C758, SW., Washington, DC 20554.

NOTIFICATION PROCEDURE:

Address inquiries to the system manager.

RECORD ACCESS PROCEDURES:

Address inquiries to the system manager. An individual requesting access must follow FCC Privacy Act regulations regarding verification of identity and amendment of records. See 47 CFR 0.554-0.557.

CONTESTING RECORD PROCEDURES:

Address inquiries to the system manager.

RECORD SOURCE CATEGORIES:

Complainants and subject entities.

EXEMPTIONS CLAIMED FOR THE SYSTEM:

None.

Federal Communications Commission.
Magalie Roman Salas,
Secretary.

[FR Doc. 01-25601 Filed 10-10-01; 8:45 am]

BILLING CODE 6712-01-P